DEPARTMENT OF ENERGY

Federal Energy Regulatory Commission

Combined Notice of Filings #1

Take notice that the Commission received the following electric corporate filings:

Docket Numbers: EC22-22-000.

Applicants: Hattiesburg Farm, LLC, Lancaster Solar LLC, SR Arlington II, LLC, SR Arlington II MT, LLC, SR Georgia Portfolio I MT, LLC, SR Baxley, LLC, SR Georgia Portfolio II Lessee, LLC, SR Lumpkin, LLC, SR Snipesville II, LLC, SR Hazlehurst III, LLC, SR Meridian III, LLC, SR Millington, LLC, SR Perry, LLC, SR Snipesville, LLC, SR South Loving LLC, SR Terrell, LLC.

Description: Joint Application for Authorization Under Section 203 of the Federal Power Act of Hattiesburg Farm, LLC, et al.

Filed Date: 11/24/21.

Accession Number: 20211124-5109.

Comment Date: 5 p.m. ET 12/15/21.

Take notice that the Commission received the following electric rate filings:

Docket Numbers: ER17-580-001.

Applicants: Axium Modesto Solar, LLC.

Description: Supplement to January 13, 2020. Notice of Change in of Facts Axium Modesto Solar, LLC.

Filed Date: 11/24/21.

Accession Number: 20211124-5017.

Comment Date: 5 p.m. ET 12/15/21.

Docket Numbers: ER20-676-007.

Applicants: Tri-State Generation and Transmission Association, Inc.

Description: Compliance filing: Amendment to Compliance Filing to be effective N/A.

Filed Date: 11/24/21.

Accession Number: 20211124-5150.

Comment Date: 5 p.m. ET 12/15/21.

Docket Numbers: ER21-1293-001.

Applicants: ISO New England Inc., NSTAR Electric Company.

Description: Compliance filing: ISO New England Inc. submits tariff filing per 35: NSTAR Electric Company, Docket No. ER21-1293; Amended Supp. Order 864 Compliance to be effective 1/1/2020.

Filed Date: 11/24/21.

Accession Number: 20211124-5125.

Comment Date: 5 p.m. ET 12/15/21.

Docket Numbers: ER22-474-000.

Applicants: Talen Energy Marketing, LLC.

Description: § 205(d) Rate Filing: Filing of Letter Agreement and Requests for Waivers to be effective 1/25/2022.

Filed Date: 11/24/21.

Accession Number: 20211124-5002.

Comment Date: 5 p.m. ET 12/15/21.

Docket Numbers: ER22-475-000.

Applicants: PJM Interconnection, L.L.C.

Description: § 205(d) Rate Filing: Rev. to OA, Sch. 12 & RAA, Sch. 17 RE termination of Switch Energy, LL to be effective 1/24/2022.

Filed Date: 11/24/21.

Accession Number: 20211124-5030.

Comment Date: 5 p.m. ET 12/15/21.

Docket Numbers: ER22-476-000.

Applicants: Alabama Power Company.

Description: § 205(d) Rate Filing: Revisions to Southeast EEM Agreement to be effective 11/25/2021.

Filed Date: 11/24/21.

Accession Number: 20211124-5041.

Comment Date: 5 p.m. ET 12/15/21.

Docket Numbers: ER22-477-000.

Applicants: Midcontinent Independent System Operator, Inc.

Description: § 205(d) Rate Filing: 2021-11-24_Attachment GGG MHVDC Self-Funding Filing to be effective 2/2/2022.

Filed Date: 11/24/21.

Accession Number: 20211124-5081.

Comment Date: 5 p.m. ET 12/15/21.

Docket Numbers: ER22-478-000.

Applicants: Pacific Gas and Electric Company.

Description: Notice of Cancellation of Service Agreement No. 32 with King City Energy Center, LLC of Pacific Gas and Electric Company.

Filed Date: 11/23/21.

Accession Number: 20211123-5230.

Comment Date: 5 p.m. ET 12/14/21.

Docket Numbers: ER22-479-000.

Applicants: Northern Wind Energy Redevelopment, LLC.

Description: Baseline eTariff Filing: Application for Market-Based Rate Authorization to be effective 1/24/2022.

Filed Date: 11/24/21.

Accession Number: 20211124-5143.

Comment Date: 5 p.m. ET 12/15/21.

Docket Numbers: ER22-480-000.

Applicants: Rock Aetna Power Partners, LLC.

Description: Baseline eTariff Filing: Application for Market-Based Rate Authorization to be effective 1/24/2022.

Filed Date: 11/24/21.

Accession Number: 20211124-5145.

Comment Date: 5 p.m. ET 12/15/21.

Docket Numbers: ER22-481-000.

Applicants: Red Barn Energy, LLC.

Description: Baseline eTariff Filing: Application for Market-Based Rate Authorization to be effective 1/24/2022.

Filed Date: 11/24/21.

Accession Number: 20211124-5149.

Comment Date: 5 p.m. ET 12/15/21.

Docket Numbers: ER22-482-000.

Applicants: PJM Interconnection, L.L.C.

Description: § 205(d) Rate Filing: Original ISA, SA #6016; Queue No. B02; Original ISA, SA #6017; Queue No. F08 to be effective 4/6/2001.

Filed Date: 11/24/21.

Accession Number: 20211124-5152.

Comment Date: 5 p.m. ET 12/15/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2021.
Debbie-Anne A. Reese,
Deputy Secretary.

[FR Doc. 2021-26133 Filed 11-30-21; 8:45 am]

BILLING CODE 6717-01-P